DEPARTMENT OF COMMERCE

International Trade Administration

[A-570-106]

Wooden Cabinets and Vanities and Components Thereof From the People's Republic of China: Final Affirmative Determination of Sales at Less Than Fair Value

AGENCY: Enforcement and Compliance, International Trade Administration, Department of Commerce.

SUMMARY: The Department of Commerce (Commerce) determines that wooden cabinets and vanities and components thereof (wooden cabinets and vanities) from the People's Republic of China (China) are being, or are likely to be, sold in the United States at less than fair value (LTFV). The final weighted-average dumping margins are listed in the “Final Determination Margins” section of this notice.

DATES: Applicable February 28, 2020.

FOR FURTHER INFORMATION CONTACT: Kabir Archuletta, Rachel Greenberg, or Eliza Siordia, AD/CVD Operations, Office V, Enforcement and Compliance, International Trade Administration, U.S. Department of Commerce, 1401 Constitution Avenue NW, Washington, DC 20230; telephone: (202) 482-2593, (202) 482-0652, or (202) 482-3878, respectively.

SUPPLEMENTARY INFORMATION:

Background

On October 9, 2019, Commerce published the Preliminary Determination in this investigation.¹ On November 14, 2019, Commerce published the Amended Preliminary Determination.² The petitioner is the American Kitchen Cabinet Alliance. The mandatory respondents in this investigation are The Ancientree Cabinet Co., Ltd. (Ancientree), Dalian Meisen Woodworking Co., Ltd. (Meisen), and Rizhao Foremost Woodwork Manufacturing Co., Ltd. (Foremost).

¹ See Wooden Cabinets and Vanities and Components Thereof from the People's Republic of China: Preliminary Affirmative Determination of Sales at Less Than Fair Value, Postponement of Final Determination and Extension of Provisional Measures, 84 FR 54106 (October 9, 2019) (Preliminary Determination), and accompanying Preliminary Decision Memorandum, as corrected by Wooden Cabinets and Vanities and Components Thereof from the People's Republic of China: Preliminary Affirmative Determination of Sales at Less than Fair Value, Postponement of Final Determination and Extension of Provisional Measures, 84 FR 56420 (October 22, 2019).

² See Wooden Cabinets and Vanities and Components Thereof from the People's Republic of China: Amended Preliminary Determination of Sales at Less Than Fair Value, 84 FR 61875 (November 14, 2019) (Amended Preliminary Determination).

A summary of the events that occurred since Commerce published the Amended Preliminary Determination, as well as a full discussion of the issues raised by parties for this final determination, are discussed in the Issues and Decision Memorandum.³ The Issues and Decision Memorandum is a public document and is on file electronically via Enforcement and Compliance's Antidumping and Countervailing Duty Centralized Electronic Service System (ACCESS). ACCESS is available to registered users at http://access.trade.gov, and to all parties in the Central Records Unit, Room B8024 of the main Commerce building. In addition, a complete version of the Issues and Decision Memorandum is available at http://enforcement.trade.gov/frn/index.html. The signed and electronic versions of the Issues and Decision Memorandum are identical in content.

³ See Memorandum, “Wooden Cabinets and Vanities and Components Thereof from the People's Republic of China: Issues and Decision Memorandum for the Final Affirmative Determination of Sales at Less Than Fair Value,” dated concurrently with, and hereby adopted by, this notice (Issues and Decision Memorandum).

Period of Investigation

The period of investigation is July 1, 2018 through December 31, 2018.

Scope of the Investigation

The scope of the investigation covers wooden cabinets and vanities from China. For a complete description of the scope of the investigation, see Appendix I.

Scope Comments

On October 2, 2019, Commerce issued a Preliminary Scope Decision Memorandum.⁴ Several interested parties submitted case and rebuttal briefs concerning the scope of this investigation. For a summary of the product coverage comments and rebuttal comments submitted to the record for this final determination, and accompanying discussion and analysis of all comments timely received, see the Final Scope Decision Memorandum.⁵ Based on the comments received, Commerce is not modifying the scope language as it appeared in the Preliminary Determination. The scope in Appendix I remains unchanged from that which appeared in the Preliminary Determination.

⁴ See Memorandum, “Certain Wooden Cabinets and Vanities and Components Thereof from the People's Republic of China: Scope Comments Decision Memorandum for the Preliminary Determinations,” dated October 2, 2019 (Preliminary Scope Decision Memorandum).

⁵ See Memorandum, “Wooden Cabinets and Vanities and Components Thereof from the People's Republic of China: Final Scope Comments Decision Memorandum,” dated concurrently with this notice (Final Scope Decision Memorandum).

Analysis of Comments Received

All issues raised in the case and rebuttal briefs by parties in this investigation are discussed in the Issues and Decision Memorandum. A list of the issues that parties raised in the Issues and Decision Memorandum is attached to this notice as Appendix II.

Verification

As provided in section 782(i) of the Tariff Act of 1930, as amended (the Act), Commerce conducted verification of the information submitted by Ancientree and Foremost for use in the final determination. We used standard verification procedures, including an examination of relevant accounting records and original source documents provided by the respondents.⁶ Commerce did not verify the information submitted by Meisen.⁷

⁶ See Memorandum, “Less-Than-Fair-Value Investigation of Wooden Cabinets and Vanities and Components Thereof from the People's Republic of China: Verification of the Export Price Sales and Factors of Production Response of The Ancientree Cabinet Co., Ltd,” dated December 10, 2019; Memorandum, “Verification of the Responses of Foremost Worldwide Company Ltd. In the Less-Than-Fair-Value Investigation of Wooden Cabinets and Vanities and Components Thereof from the People's Republic of China,” dated January 10, 2020; Memorandum “Verification of the Responses of Rizhao Foremost Woodwork Manufacturing Co. Ltd. in the Less-Than-Fair-Value Investigation of Wooden Cabinets and Vanities and Components Thereof from the People's Republic of China,” dated January 10, 2020; and “Verification of the Responses of Rizhao Foremost Woodwork Manufacturing Co. Ltd. in the Less-Than-Fair-Value Investigation of Wooden Cabinets and Vanities and Components Thereof from the People's Republic of China,” dated January 10, 2020.

⁷ See Commerce's Letter, “Investigation of Wooden Cabinets and Vanities and Components Thereof from the People's Republic of China: Verification,” dated December 27, 2019.

Changes Since the Preliminary Determination

Based on our review and analysis of the comments received from parties, minor corrections presented at verification, and our verification findings, we have made certain changes to the margin calculations for Ancientree and Foremost. For a discussion of these changes, see the “Changes Since the Preliminary Determination” section of the Issues and Decision Memorandum and the Final Calculation Memoranda.⁸

⁸ See Memoranda, “Antidumping Duty Investigation of Wooden Cabinets and Vanities and Components Thereof from the People's Republic of China: Final Analysis Memorandum for The Ancientree Cabinet Co., Ltd.,” and “Antidumping Duty Investigation of Wooden Cabinets and Vanities and Components Thereof from the People's Republic of China: Final Analysis Memorandum for Rizhao Foremost Woodwork Manufacturing Company Ltd.,” both dated concurrently with this notice (collectively, Final Calculation Memoranda).

Adverse Facts Available

In determining Meisen's dumping margin, we find that the application of facts available with an adverse inference is appropriate under sections 776(a)(2)(A) through (C) and 776(b) of the Act as discussed in the Issues and Decision Memorandum.⁹ Therefore, as adverse facts available (AFA), we have assigned Meisen the rate of 262.18 percent, which is the highest petition rate.¹⁰

⁹ See Issues and Decision Memorandum at Comment 22.

¹⁰ Id.

For the reasons explained in the Preliminary Determination, we continue to find that the use of AFA, pursuant to sections 776(a) and (b) of the Act, is warranted in determining the rate for the China-wide entity.¹¹ In selecting the AFA rate for the China-wide entity, Commerce's practice is to select a rate that is sufficiently adverse to ensure that the uncooperative party does not obtain a more favorable result by failing to cooperate than if it had fully cooperated.¹² For the final determination, we are also assigning the China-wide entity, as AFA, the rate of 262.18 percent, which is the highest petition rate.¹³

¹¹ See Preliminary Determination, 84 FR at 54106.

¹² See, e.g., Notice of Preliminary Determination of Sales at Less Than Fair Value and Postponement of Final Determination: Purified Carboxymethyl Cellulose from Finland, 69 FR 77216 (December 27, 2004), unchanged in Notice of Final Determination of Sales at Less Than Fair Value: Purified Carboxymethyl Cellulose from Finland, 70 FR 28279 (May 17, 2005).

¹³ See Issues and Decision Memorandum at “Use of Adverse Facts Available.”

Separate Rates

Generally, Commerce looks to section 735(c)(5)(A) of the Act, which provides instructions for calculating the all-others rate in a market economy antidumping duty (AD) investigation, for guidance when calculating the rate for separate rate respondents that we did not individually examine in a non-market economy AD investigation. Section 735(c)(5)(A) of the Act states that the estimated all-others rate shall be an amount equal to the weighted average of the estimated weighted average dumping margins established for exporters and producers individually investigated, excluding any zero and de minimis margins, and any margins determined entirely on the basis of facts available.¹⁴

¹⁴ See, e.g., Ball Bearings and Parts Thereof from France, Germany, Italy, Japan, and the United Kingdom: Final Results of Antidumping Duty Administrative Reviews and Rescission of Reviews in Part, 73 FR 52823, 52824 (September 11, 2008), and accompanying Issues and Decision Memorandum at Comment 16.

In this final determination, Commerce has calculated rates for Ancientree and Foremost that are not zero, de minimis, or based entirely on facts available. Thus, looking to section 735(c)(5)(A) of the Act for guidance, and consistent with our practice,¹⁵ based on publicly ranged sales data, we are assigning the weighted-average of these mandatory respondents' rates as the rate for non-individually examined companies that have qualified for a separate rate, other than Meisen, whose rate is based entirely on section 776 of the Act as discussed above.

¹⁵ See, e.g., Preliminary Determination of Sales at Less Than Fair Value and Partial Affirmative Determination of Critical Circumstances: Certain Polyester Staple Fiber from the People's Republic of China, 71 FR 77373, 77377 (December 26, 2006), unchanged in Final Determination of Sales at Less Than Fair Value and Partial Affirmative Determination of Critical Circumstances: Certain Polyester Staple Fiber from the People's Republic of China, 72 FR 19690 (April 19, 2007).

Final Determination

The final estimated weighted-average dumping margins are as follows:

Exporter | Producer | Estimated weighted- average dumping margin (percent) | Cash deposit rate (adjusted for subsidy offsets) (percent)
The Ancientree Cabinet Co., Ltd | The Ancientree Cabinet Co., Ltd | 4.37 | 0.00
Dalian Meisen Woodworking Co., Ltd | Dalian Meisen Woodworking Co., Ltd | 262.18 | 251.64
Foremost Worldwide Company Limited | Rizhao Foremost Woodwork Manufacturing Company, Ltd | 101.46 | 90.92
Foremost Worldwide Company Limited | Henan AiDiJia Furniture Co., Ltd | 101.46 | 90.92
Foremost Worldwide Company Limited | Suzhou Weiye Furniture Co., Ltd | 101.46 | 90.92
Foremost Worldwide Company Limited | Changsha Minwan Furniture Manufacturing Co., Ltd | 101.46 | 90.92
ANHUI JIANLIAN WOOD PRODUCTS CO., LTD | ANHUI JIANLIAN WOOD PRODUCTS CO., LTD | 48.50 | 37.96
Anhui Swanch Cabinetry Co., Ltd | Anhui Swanch Cabinetry Co., Ltd | 48.50 | 37.96
ANHUI XINYUANDA CUPBOARD CO., LTD | ANHUI XINYUANDA CUPBOARD CO., LTD | 48.50 | 37.96
Beijing Oulu Jinxin International Trade Co., Ltd | Beijing Oulu Jinxin International Trade Co., Ltd | 48.50 | 37.96
Boloni Smart Home Decor (Beijing) Co., LTD | Boloni Smart Home Decor (Beijing) Co., LTD | 48.50 | 37.96
BRENTRIDGE HOLDING CO., LTD | ZHOUSHAN FOR-STRONG WOOD CO., LTD | 48.50 | 37.96
Caoxian Brothers Hengxin Wood Industry Co., Ltd | Caoxian Brothers Hengxin Wood Industry Co., Ltd | 48.50 | 37.96
Changyi Zhengheng Woodwork Co., Ltd | Changyi Zhengheng Woodwork Co., Ltd | 48.50 | 37.96
CHAOZHOU YAFENG BATHROOM EQUIPMENT CO., LTD | CHAOZHOU YAFENG BATHROOM EQUIPMENT CO., LTD | 48.50 | 37.96
China Friend Limited | Dongming Sanxin Wood Industry Co., Ltd | 48.50 | 37.96
Dalian Jiaye Wood Products Co., Ltd | Dalian Jiaye Wood Products Co., Ltd | 48.50 | 37.96
Dalian Xingsen Wooden Products Co., Ltd | Dalian Xingsen Wooden Products Co., Ltd | 48.50 | 37.96
Dandong City Anmin Wooden Products Group Co., Ltd | Dandong City Anmin Wooden Products Group Co., Ltd | 48.50 | 37.96
Dandong Laroyal Cabinetry Co., Ltd | Dandong Laroyal Cabinetry Co., Ltd | 48.50 | 37.96
DEHK LIMITED | DIAM DISPLAY (CHINA) CO., LTD | 48.50 | 37.96
Deqing China-Africa Foreign Trade Port Co., Ltd | Suqian Welcomewood Products Co., Ltd | 48.50 | 37.96
Dewell Wooden Products Haian Co., Ltd | Dewell Wooden Products Haian Co., Ltd | 48.50 | 37.96
Dongguan American Parts Supplier Co., Ltd | Dongguan American Parts Supplier Co., Ltd | 48.50 | 37.96
Dongguan Niusaiqu Wood Industry Co., Ltd | Dongguan Niusaiqu Wood Industry Co., Ltd | 48.50 | 37.96
Dongguan Unique Life Furniture Co., Ltd. also known as Unique Life Furniture Co., Ltd (trade name) | Dongguan Unique Life Furniture Co., Ltd | 48.50 | 37.96
Dorbest Ltd | Rui Feng Woodwork (Dongguan) Co., Ltd | 48.50 | 37.96
EZIDONE DISPLAY CORPORATION LTD | EZIDONE DISPLAY CORPORATION LTD | 48.50 | 37.96
EZIDONE DISPLAY CORPORATION LTD | EZIDONE DISPLAY INC | 48.50 | 37.96
Forcer International Limited | QUFU XINYU FURNITURE CO., LTD | 48.50 | 37.96
Forcer International Limited | LINYI RUNKANG CABINET CO., LTD | 48.50 | 37.96
Forcer International Limited | BEIJING OULU JINXIN INTERNATIONAL TRADE CO., LTD | 48.50 | 37.96
Foshan City Shunde District Refined Furniture Co., Ltd. also known as Refined Furniture Co., Ltd. (trade name) | Foshan City Shunde District Refined Furniture Co., Ltd. also known as Refined Furniture Co., Ltd. (trade name) | 48.50 | 37.96
Foshan Liansu building material Trading Co., Ltd | Guangdong Lesso Home Furnishing Co., Ltd | 48.50 | 37.96
FOSHAN NANHAI HONGZHOU WOOD CO., LTD | FOSHAN NANHAI HONGZHOU WOOD CO., LTD | 48.50 | 37.96
Foshan Shunde Yajiasi Kitchen Cabinet Co., Ltd | Foshan Shunde Yajiasi Kitchen Cabinet Co., Ltd | 48.50 | 37.96
FOSHAN SOURCEVER (CN) CO., LIMITED | FOSHAN DIBIAO BATHROOM CO., LTD | 48.50 | 37.96
FOSHAN SOURCEVER (CN) CO., LIMITED | FOSHAN MK HOME FURISHING CO., LTD | 48.50 | 37.96
FOSHAN SOURCEVER (CN) CO., LIMITED | PROUDER INDUSTRIAL LIMITED | 48.50 | 37.96
FOSHAN SOURCEVER (CN) CO., LIMITED | FOSHAN DEMAX SANITARY WARE CO., LTD | 48.50 | 37.96
FOSHAN SOURCEVER (CN) CO., LIMITED | HEBEI SHUANGLI FURNITURE CO., LTD | 48.50 | 37.96
FOSHAN SOURCEVER (CN) CO., LIMITED | ZHANGZHOU GUOHUI INDUSTRIAL & TRADE CO., LTD | 48.50 | 37.96
FOSHAN SOURCEVER (CN) CO., LIMITED | SHOUGUANG FUSHI WOOD CO., LTD | 48.50 | 37.96
FOSHAN SOURCEVER (CN) CO., LIMITED | Foshan Virtu Bathroom Furniture Ltd | 48.50 | 37.96
FOSHAN SOURCEVER (CN) CO., LIMITED | Guangdong Purefine Kitchen & Bath Technology Co., LTD | 48.50 | 37.96
FOSHAN SOURCEVER (CN) CO., LIMITED | KAIPING HONGITARYWARE TECHNOLOGY LTD | 48.50 | 37.96
Foshan Sourcever Company Limited | FOSHAN DIBIAO BATHROOM CO., LTD | 48.50 | 37.96
Foshan Sourcever Company Limited | FOSHAN MK HOME FURISHING CO., LTD | 48.50 | 37.96
Foshan Sourcever Company Limited | PROUDER INDUSTRIAL LIMITED | 48.50 | 37.96
Foshan Sourcever Company Limited | FOSHAN DEMAX SANITARY WARE CO., LTD | 48.50 | 37.96
Foshan Sourcever Company Limited | HEBEI SHUANGLI FURNITURE CO., LTD | 48.50 | 37.96
Foshan Sourcever Company Limited | ZHANGZHOU GUOHUI INDUSTRIAL & TRADE CO., LTD | 48.50 | 37.96
Foshan Sourcever Company Limited | SHOUGUANG FUSHI WOOD CO., LTD | 48.50 | 37.96
Foshan Sourcever Company Limited | Foshan Virtu Bathroom Furniture Ltd | 48.50 | 37.96
Foshan Sourcever Company Limited | Guangdong Purefine Kitchen & Bath Technology Co., LTD | 48.50 | 37.96
Foshan Sourcever Company Limited | KAIPING HONGITARYWARE TECHNOLOGY LTD | 48.50 | 37.96
Foshan Xinzhongwei Economic & Trade Co., Ltd | Foshan Lihong Furniture Sanitary Ware Co., Ltd | 48.50 | 37.96
FUJIAN DUSHI WOODEN INDUSTRY CO., LTD | FUJIAN DUSHI WOODEN INDUSTRY CO., LTD | 48.50 | 37.96
FUJIAN LEIFENG CABINETRY CO., LTD | FUJIAN LEIFENG CABINETRY CO., LTD | 48.50 | 37.96
Fujian Panda Home Furnishing Co., Ltd | Fujian Panda Home Furnishing Co., Ltd | 48.50 | 37.96
Fujian Senyi Kitchen Cabinet Co., Ltd | Fujian Senyi Kitchen Cabinet Co., Ltd | 48.50 | 37.96
Fuzhou Biquan Trading Co., Ltd | Biquan (Fujian) Group Co., Ltd | 48.50 | 37.96
Fuzhou CBM Import & Export Co., Ltd | Fuzhou CBM Import & Export Co., Ltd | 48.50 | 37.96
Fuzhou Desource Home Décor Co., Ltd | Fuzhou Desource Home Decor Co., Ltd | 48.50 | 37.96
FUZHOU LIMIN STONE PRODUCTS CO., LTD | Fuzhou YST Cabinet Co., Ltd | 48.50 | 37.96
FUZHOU MASTONE IMPORT & EXPORT CO., LTD | Fuzhou Yuansentai Cabinet Co., Ltd | 48.50 | 37.96
Fuzhou Minlian Wood Industry Co., Ltd | Fuzhou Minlian Wood Industry Co., Ltd | 48.50 | 37.96
FUZHOU SUNRISING HOME DECO MANUFACTURING CO., LTD | FUZHOU SUNRISING HOME DECO MANUFACTURING CO., LTD | 48.50 | 37.96
FUZHOU XINRUI CABINET CO., LTD | FUZHOU XINRUI CABINET CO., LTD | 48.50 | 37.96
Gaomi City Haitian Wooden Ware Co., Ltd | Gaomi City Haitian Wooden Ware Co., Ltd | 48.50 | 37.96
GAOMI HONGTAI HOME FURNITURE CO., LTD | GAOMI HONGTAI HOME FURNITURE CO., LTD | 48.50 | 37.96
Guangde Bozhong Trade Company, Ltd | Guangde Bozhong Trade Company, Ltd | 48.50 | 37.96
GUANGDONG CACAR KITCHEN TECHNOLOGY CO., LTD | GUANGDONG CACAR KITCHEN TECHNOLOGY CO., LTD | 48.50 | 37.96
Guangdong G-Top Import and Export Co., Ltd | Foshan Shunde Rongao Furniture CO., LTD | 48.50 | 37.96
Guangzhou Nuolande Import and Export Co., Ltd | Guangzhou Nuolande Import and Export Co., Ltd | 48.50 | 37.96
Haiyang Kunlun Wood Co., Ltd | Haiyang Kunlun Wood Co., Ltd | 48.50 | 37.96
Hangzhou Bestcraft Sanitary Equipments Co., Ltd | Hangzhou Bestcraft Sanitary Equipments Co., Ltd | 48.50 | 37.96
Hangzhou Entop Houseware Co., Ltd | Jinhua Aonika Sanitary Ware Co., Ltd | 48.50 | 37.96
Hangzhou Entop Houseware Co., Ltd | Hangzhou Bestcraft Sanitary Equipments Co., Ltd | 48.50 | 37.96
Hangzhou Hansen Sanitary Ware Co., Ltd | Hangzhou Hansen Sanitary Ware Co., Ltd | 48.50 | 37.96
Hangzhou Hoca Kitchen & Bath Products Co., Ltd | Hangzhou Hoca Kitchen & Bath Products Co., Ltd | 48.50 | 37.96
Hangzhou Home Dee Sanitary Ware Co., Ltd | Hangzhou Home Dee Sanitary Ware Co., Ltd | 48.50 | 37.96
Hangzhou Oulang Bathroom Equipment Co., Ltd | Hangzhou Oulang Bathroom Equipment Co., Ltd | 48.50 | 37.96
Hangzhou Royo Import & Export Co., Ltd | Jinhua Aonika Sanitary Ware Co., Ltd | 48.50 | 37.96
Hangzhou Royo Import & Export Co., Ltd | Hangzhou Yuxin Sanitary Ware Co., Ltd | 48.50 | 37.96
Hangzhou Royo Import & Export Co., Ltd | Hangzhou Fuyang Beautiful Sanitary Ware Co., Ltd | 48.50 | 37.96
Hangzhou Sunlight Sanitary Co., Ltd | Hangzhou Sunlight Sanitary Co., Ltd | 48.50 | 37.96
Hangzhou Weinuo Sanitary Ware Co., Ltd | PINGHU AIPA SANITARY WARE CO., LTD | 48.50 | 37.96
Hangzhou Weinuo Sanitary Ware Co., Ltd | HANGZHOU QILONG SANITARY WARE CO., LTD | 48.50 | 37.96
Hangzhou Xinhai Sanitary Ware Co., Ltd | Hangzhou Xinhai Sanitary Ware Co., Ltd | 48.50 | 37.96
Hangzhou Yewlong Import & Export Co., Ltd | Hangzhou Yewlong Industry Co., Ltd | 48.50 | 37.96
Hangzhou Zhuangyu Import & Export Co., Ltd | Hangzhou Zhuangyu Import & Export Co., Ltd | 48.50 | 37.96
Henan Aotin Home Furnishing Co., Ltd | Henan Aotin Home Furnishing Co., Ltd | 48.50 | 37.96
Heyond Cabinet Co., Ltd | Heyond Cabinet Co., Ltd | 48.50 | 37.96
Homestar Corporation | Homestar Corporation | 48.50 | 37.96
HONG KONG JIAN CHENG TRADING CO., LIMITED | ZHONGSHAN YAYUE FURNITURE CO., LTD | 48.50 | 37.96
Xiamen Honglei Imp. & Exp. Co., Ltd. also known as Honglei (Xiamen) Stone Co., Ltd | Changtai Guanjia Industry & Trade Company Co., Ltd | 48.50 | 37.96
Xiamen Honglei Imp. & Exp. Co., Ltd. also known as Honglei (Xiamen) Stone Co., Ltd | Zhangzhou Huihua Industry and Trade Co., Ltd | 48.50 | 37.96
Xiamen Honglei Imp. & Exp. Co., Ltd. also known as Honglei (Xiamen) Stone Co., Ltd | Fujian Xinanlong Wood Industry Co., Ltd | 48.50 | 37.96
Honsoar New Building Material Co., Ltd | Shandong Honsoar Cabinet Materials Co., Ltd | 48.50 | 37.96
Hua Yin Trading Development Co., Ltd of Jiangmen City | Jianfa Wooden Co., Ltd | 48.50 | 37.96
Hua Yin Trading Development Co., Ltd of Jiangmen City | Heshan Yingmei Cabinets Co., Ltd | 48.50 | 37.96
Hua Yin Trading Development Co., Ltd of Jiangmen City | Hesha Feiqiu Cabinet Co., Ltd | 48.50 | 37.96
Huimin Hanlong Furniture Co., Ltd | Huimin Hanlong Furniture Co., Ltd | 48.50 | 37.96
HUISEN FURNITURE (LONG NAN) CO., LTD. also known as HUISEN FURNITURE (LONGNAN) CO., LTD | HUISEN FURNITURE (LONG NAN) CO., LTD. also known as HUISEN FURNITURE (LONGNAN) CO., LTD | 48.50 | 37.96
HUIZHOU MANDARIN FURNITURE CO., LTD | HUIZHOU MANDARIN FURNITURE CO., LTD | 48.50 | 37.96
Jiang Su Rongxin Cabinets Ltd | Jiang Su Rongxin Cabinets Ltd | 48.50 | 37.96
Jiangmen Kinwai Furniture Decoration Co., Ltd | Jiangmen Kinwai Furniture Decoration Co., Ltd | 48.50 | 37.96
Jiangmen Kinwai International Furniture Co., Ltd | Jiangmen Kinwai International Furniture Co., Ltd | 48.50 | 37.96
Jiangsu Beichen Wood Co., Ltd | Jiangsu Beichen Wood Co., Ltd | 48.50 | 37.96
Jiangsu Meijun Intelligent Home Co., Ltd | Jiangsu Meijun Intelligent Home Co., Ltd | 48.50 | 37.96
Jiangsu Pusite Furniture Co., Ltd | Jiangsu Pusite Furniture Co., Ltd | 48.50 | 37.96
Jiangsu Roc Furniture Industrial Co., Ltd | Jiangsu Roc Furniture Industrial Co., Ltd | 48.50 | 37.96
JIANGSU SUNWELL CABINETRY CO., LTD | JIANGSU SUNWELL CABINETRY CO., LTD | 48.50 | 37.96
JIANGSU WEISEN HOUSEWARE CO., LTD | JIANGSU WEISEN HOUSEWARE CO., LTD | 48.50 | 37.96
Jiangsu Xiangsheng Bedtime Furniture Co., Ltd | Jiangsu Xiangsheng Bedtime Furniture Co., Ltd | 48.50 | 37.96
Jiayuan (Xiamen) Industrial Co., Ltd | Jiayuan (Xiamen) Industrial Co., Ltd | 48.50 | 37.96
JINJIANG PERFECT GENERATION IMP. & EXP. CO., LTD | Homebi Technology Co., LTD | 48.50 | 37.96
King's Group Furniture (Enterprises) Co., Ltd | Zhongshan King's Group Furniture (ENTERPRISES) Co., Ltd | 48.50 | 37.96
KM Cabinetry Co., Limited | Zhongshan KM Cabinetry Co., Ltd | 48.50 | 37.96
Kunshan Baiyulan Furniture Co., Ltd | Kunshan Baiyulan Furniture Co., Ltd | 48.50 | 37.96
Kunshan Home Right Trade Corporation | Kunshan Fangs Furniture Co., Ltd | 48.50 | 37.96
LIANYUNGANG SUN RISE TECHNOLOGY CO., LTD | LIANYUNGANG SUN RISE TECHNOLOGY CO., LTD | 48.50 | 37.96
Linshu Meibang Furniture Co., Ltd | Linshu Meibang Furniture Co., Ltd | 48.50 | 37.96
Linyi Bomei Furniture Co., Ltd | Linyi Bomei Furniture Co., Ltd | 48.50 | 37.96
LINYI BONN FLOORING MANUFACTURING CO., LTD | LINYI BONN FLOORING MANUFACTURING CO., LTD | 48.50 | 37.96
Linyi Kaipu Furniture Co., Ltd | Linyi Kaipu Furniture Co., Ltd | 48.50 | 37.96
Linyi Runkang Cabinet Co., Ltd | Linyi Runkang Cabinet Co., Ltd | 48.50 | 37.96
Liu Shu Woods Product (Huizhou) Co., Ltd also known as Liu Shu Wood Products Co., Ltd (trade name) and Liu Shu Woods Product Co., Ltd (trade name) | Liu Shu Woods Product (Huizhou) Co., Ltd | 48.50 | 37.96
Master Door & Cabinet Co., Ltd | Master Door & Cabinet Co., Ltd | 48.50 | 37.96
Masterwork Cabinetry Company Limited | Shandong Compete Wood Co., Ltd | 48.50 | 37.96
Masterwork Cabinetry Company Limited | Linyi Zhongsheng Jiaju Zhuangshi Co., Ltd | 48.50 | 37.96
MEILIN WOOD PRODUCTS(DALIAN)CO., LTD | MEILIN WOOD PRODUCTS(DALIAN)CO., LTD | 48.50 | 37.96
Minhou Beite Home Decor Co., Ltd | Minhou Beite Home Decor Co., Ltd | 48.50 | 37.96
MJB Supply (Dalian) Co., Ltd | Mulin City Bamiantong Linyeju Jisen Wood | 48.50 | 37.96
MOREWOOD CABINETRY CO., LTD | MOREWOOD CABINETRY CO., LTD | 48.50 | 37.96
Nanjing Kaylang Co., Ltd | Nanjing Kaylang Co., Ltd | 48.50 | 37.96
Nantong Aershin Cabinets Co., Ltd | Nantong Aershin Cabinets Co., Ltd | 48.50 | 37.96
Nantong Ouming Wood Co., Ltd., also known as Nantong Ouming Wood Industry Co., Ltd | Nantong Ouming Wood Co., Ltd., also known as Nantong Ouming Wood Industry Co., Ltd | 48.50 | 37.96
NANTONG YANGZI FURNITURE CO., LTD | NANTONG YANGZI FURNITURE CO., LTD | 48.50 | 37.96
NINGBO KINGWOOD FURNITURE CO., LTD | NINGBO KINGWOOD FURNITURE CO., LTD | 48.50 | 37.96
NINGBO ROVSA HOME FURNISHING CO., LTD | NINGBO ROVSA HOME FURNISHING CO., LTD | 48.50 | 37.96
Ojans Company Limited | Foshan Shunde Ojans Intelligent Sanitary Ware Co., Ltd | 48.50 | 37.96
Oppein Home Group Inc. | Oppein Home Group Inc. | 48.50 | 37.96
PIZHOU OUYME IMPORT & EXPORT TRADE CO., LTD | XUZHOU OUMEC WOOD-BASED PANEL CO., LTD | 48.50 | 37.96
Pneuma Asia Sourcing & Trading Co. LIMITED | Dalian Tianxin Home Product Co., Ltd | 48.50 | 37.96
Pneuma Asia Sourcing & Trading Co. LIMITED | Qingdao Haiyan Drouot Household Co., Ltd | 48.50 | 37.96
Putian Jinggong Furniture Co., Ltd | Putian Jinggong Furniture Co., Ltd | 48.50 | 37.96
Qingdao Coomex Sources Co., Ltd. also known as Coomex Sources Co., Ltd | Nantong Aershin Cabinets Co., Ltd | 48.50 | 37.96
Qingdao Haiyan Drouot Household Co., Ltd | Qingdao Haiyan Drouot Household Co., Ltd | 48.50 | 37.96
Qingdao Liangmu Hongye Co., Ltd | Qingdao Liangmu Hongye Co., Ltd | 48.50 | 37.96
Qingdao Liangmu Jinshan Woodwork Co., Ltd | Qingdao Liangmu Jinshan Woodwork Co., Ltd | 48.50 | 37.96
Qingdao Northriver Wooden Resource Industry & Trading Co., Ltd | Lankao Sanqiang Wooden Products Co., Ltd | 48.50 | 37.96
Qingdao Northriver Wooden Resource Industry & Trading Co., Ltd | Linyi Lanshan Chengxinli Woods Co., Ltd | 48.50 | 37.96
Qingdao Northriver Wooden Resource Industry & Trading Co., Ltd | Shouguang Shi Qifeng Woods Co., Ltd | 48.50 | 37.96
Qingdao Northriver Wooden Resource Industry & Trading Co., Ltd | Linyi Mingzhu Woods Co., Ltd | 48.50 | 37.96
Qingdao Northriver Wooden Resource Industry & Trading Co., Ltd | Yichun Senhai Woods Industry Co., Ltd | 48.50 | 37.96
Qingdao Northriver Wooden Resource Industry & Trading Co., Ltd | Linyi Jinde Arts & Crafts Co., Ltd | 48.50 | 37.96
Qingdao Northriver Wooden Resource Industry & Trading Co., Ltd | Qingdao Ruirong Woods Co., Ltd | 48.50 | 37.96
Qingdao Shousheng Industry Co., Ltd | Qingdao Shousheng Industry Co., Ltd | 48.50 | 37.96
Qingdao Yimei Wood Work Co., Ltd | Qingdao Yimei Wood Work Co., Ltd | 48.50 | 37.96
QINGDAOHONGXINCHENGDA WOOD INDUSTRY CO., LTD | QINGDAOHONGXINCHENGDA WOOD INDUSTRY CO., LTD | 48.50 | 37.96
QUFU XINYU FURNITURE CO., LTD | QUFU XINYU FURNITURE CO., LTD | 48.50 | 37.96
Ronbow Hong Kong Limited | Wuxi Yusheng Kitchen-Bathroom Equipment Co., Ltd | 48.50 | 37.96
Sagarit Bathroom Manufacturer Limited | Shouguang Fushi Wood Co., Ltd | 48.50 | 37.96
Sagarit Bathroom Manufacturer Limited | Zhangzhou Guohui Industrial & Trade Co., Ltd | 48.50 | 37.96
Sagarit Bathroom Manufacturer Limited | Qingdao Runpeng Wood Industrial Co., Ltd | 48.50 | 37.96
Sankok Arts Co., Ltd | Sankok Arts Co., Ltd | 48.50 | 37.96
Senke Manufacturing Company | Qindao Yimei Wood Work Co., Ltd | 48.50 | 37.96
Senke Manufacturing Company | Linyi Kaipu Furniture Co., Ltd | 48.50 | 37.96
Senke Manufacturing Company | Shandon Honsoar Cabinetry Co., Ltd | 48.50 | 37.96
Senke Manufacturing Company | Huimin Hanlong Furniture Co, Ltd | 48.50 | 37.96
Shandong Cubic Alpha Timber Co., Ltd | Shandong Cubic Alpha Timber Co., Ltd | 48.50 | 37.96
Shandong Fusheng Wood Co., Ltd | Shandong Fusheng Wood Co., Ltd | 48.50 | 37.96
Shandong Huanmei Wood Co., Ltd | Shandong Huanmei Wood Co., Ltd | 48.50 | 37.96
SHANDONG JINGYAO HOME DECORATION PRODUCTS CO., LTD | SHANDONG JINGYAO HOME DECORATION PRODUCTS CO., LTD | 48.50 | 37.96
Shandong Longsen Woods Co., Ltd | Shandong Longsen Woods Co., Ltd | 48.50 | 37.96
Shandong Sanfortune Home and Furniture Co., Ltd | Shandong Sanfortune Home and Furniture Co., Ltd | 48.50 | 37.96
Shanghai Aiwood Home Supplies Co., Ltd | Jiangsu Gangxing Kitchen Cabinet Co., Ltd | 48.50 | 37.96
Shanghai Aiwood Home Supplies Co., Ltd | Shanghai Homebase SanSheng Household Product Co., Ltd | 48.50 | 37.96
Shanghai Baiyulan Furniture Co., Ltd | Kunshan Baiyulan Furniture Co., Ltd | 48.50 | 37.96
Shanghai Beautystar Cabinetry Co., Ltd | Jiangsu Sunwell Cabinetry Co., Ltd | 48.50 | 37.96
Shanghai Beautystar Cabinetry Co., Ltd | Nantong Jiegao Furniture Co., Ltd | 48.50 | 37.96
Shanghai Jiang Feng Furniture Co., Ltd | Shanghai Jiang Feng Furniture Co., Ltd | 48.50 | 37.96
SHANGHAI LINE KING INTERNATIONAL TRADING CO., LTD | SHANGHAI YAZHI WOODEN INDUSTRY CO., LTD | 48.50 | 37.96
Shanghai Mebo Industry Co. Ltd | Shanghai Mebo Industry Co. Ltd | 48.50 | 37.96
Shanghai Qingzhou Woodenware Co., Ltd | Shanghai Qingzhou Woodenware Co., Ltd | 48.50 | 37.96
Shanghai S&M Trade Co., Ltd | Anhui GeLun Wood Industry Co., Ltd | 48.50 | 37.96
Shanghai S&M Trade Co., Ltd | Ning'an City Jiude Wood Co., Ltd | 48.50 | 37.96
Shanghai S&M Trade Co., Ltd | Muling City Bamiantong Forestry Bureau Jisen Wood Co., Ltd | 48.50 | 37.96
Shanghai S&M Trade Co., Ltd | Dalian Ruiyu Mountain Wood Co., Ltd | 48.50 | 37.96
Shanghai S&M Trade Co., Ltd | Linshu Meibang Furniture Co., Ltd | 48.50 | 37.96
Shanghai S&M Trade Co., Ltd | Jiamusi City Quanhong Wood Industry Co., Ltd | 48.50 | 37.96
Shanghai S&M Trade Co., Ltd | Kunshan Fangs Furniture Co., Ltd | 48.50 | 37.96
Shanghai S&M Trade Co., Ltd | Dalian Chunyao Wood Industry Co., Ltd | 48.50 | 37.96
Shanghai S&M Trade Co., Ltd | Anhui Juxin Wood Industry Co., Ltd | 48.50 | 37.96
Shanghai Wang Lei Industries- Taicang Branch | Shanghai Wang Lei Industries- Taicang Branch | 48.50 | 37.96
Shanghai Wen Bo Industries Co. Ltd | Shanghai Yinbo Manufacturing Co. Ltd | 48.50 | 37.96
Shanghai Wen Bo Industries Co. Ltd | Dalian Jiaye Wood Products Co., Ltd | 48.50 | 37.96
Shanghai Wen Bo Industries Co. Ltd | Shanghai Baiyulan Furniture Co., Ltd | 48.50 | 37.96
Shanghai Xietong (Group) Co., Ltd | Nantong Jiegao Furniture Co., Ltd | 48.50 | 37.96
Shanghai Xietong (Group) Co., Ltd | Jiangsu Senwei Smart Home Co., Ltd | 48.50 | 37.96
SHANGHAI ZIFENG INTERNATIONAL TRADING CO., LTD | SHANDONG GAINVAST WOODEN PRODUCTS CO., LTD | 48.50 | 37.96
SHANGHAI ZIFENG INTERNATIONAL TRADING CO., LTD | SHANGHAI WENYI WOODEN CO., LTD | 48.50 | 37.96
SHANGHAI ZIFENG INTERNATIONAL TRADING CO., LTD | NAN TONG DI LIN FURNITURE CO., LTD | 48.50 | 37.96
SHANGHAI ZIFENG INTERNATIONAL TRADING CO., LTD | JIANGSU YANAN WOODEN CO., LTD | 48.50 | 37.96
Sheen Lead International Trading (Shanghai) Co., Ltd | SHANGHAI RUIYING FURNITURE CO., LTD | 48.50 | 37.96
Shouguang Fushi Wood Co., Ltd | Shouguang Fushi Wood Co., Ltd | 48.50 | 37.96
Shouguang Honsoar Imp. & Exp. Trading Co., Ltd | Shandong Honsoar Cabinet Materials Co., Ltd | 48.50 | 37.96
SHOUGUANG JIAXIU WOOD CO., LTD | SHOUGUANG JIAXIU WOOD CO., LTD | 48.50 | 37.96
SHOUGUANG JIAXIU WOOD CO., LTD | SHOUGUANG JIAXIU WOOD CO., LTD | 48.50 | 37.96
Shouguang Jinxiangyuan Home Furnishing Co., Ltd | Shouguang Jinxiangyuan Home Furnishing Co., Ltd | 48.50 | 37.96
Shouguang Sanyang Wood Industry Co., Ltd | Shouguang Sanyang Wood Industry Co., Ltd | 48.50 | 37.96
Silver Stone Group Co., Ltd | QINGDAO FAMILY CRAFTS CO., LTD | 48.50 | 37.96
Silver Stone Group Co., Ltd | QingDao XiuZhen Furniture Co., Ltd | 48.50 | 37.96
Smart Gift International | Anhui GeLun Wood Industry Co., Ltd | 48.50 | 37.96
Smart Gift International | Ning'an City Jiude Wood Co., Ltd | 48.50 | 37.96
Smart Gift International | Muling City Bamiantong Forestry Bureau Jisen Wood Co., Ltd | 48.50 | 37.96
Smart Gift International | Dalian Ruiyu Mountain Wood Co., Ltd | 48.50 | 37.96
Smart Gift International | Jiamusi City Quanhong Wood Industry Co., Ltd | 48.50 | 37.96
Smart Gift International | Dalian Chunyao Wood Industry Co., Ltd | 48.50 | 37.96
SUNCO TIMBER(KUNSHAN) CO., LTD | SUNCO TIMBER(KUNSHAN) CO., LTD | 48.50 | 37.96
Supree (Fujian) Wood Co., Ltd | Supree (Fujian) Wood Co., Ltd | 48.50 | 37.96
Supree (Fujian) Construction Materials Co., Ltd | Supree (Fujian) Construction Materials Co., Ltd | 48.50 | 37.96
SUZHOU BAOCHENG INDUSTRIES CO., LTD | WALLBEYOND (SHUYANG) HOME DECOR CO., LTD | 48.50 | 37.96
Suzhou Five Cubic Wood Co., Ltd | Suzhou Geda Office Equipment Manufacturing Co., Ltd | 48.50 | 37.96
Suzhou Oriental Dragon Import and Export Co., Ltd. also known as Suzhou Oriental Dragon Import and Export Corp., Ltd | Lingbi Xianghe Wood Co., Ltd | 48.50 | 37.96
Tai Yuan Trading Co., Ltd also known as Heshan Tai Yuan Trading Co., Ltd | Heshan Yingmei Cabinet Co., Ltd | 48.50 | 37.96
Taishan Changfa Wood Industry Co., Ltd | Taishan Changfa Wood Industry Co., Ltd | 48.50 | 37.96
TAISHAN HONGXIANG TRADING CO., LTD | Chang He Xing Wood Manufacturer Co., Ltd | 48.50 | 37.96
TAISHAN HONGXIANG TRADING CO., LTD | Heshan Yingmei Cabinets Co., Ltd | 48.50 | 37.96
TAISHAN HONGXIANG TRADING CO., LTD | Heshan Feiqiu Cabinet Co., Ltd | 48.50 | 37.96
TAISHAN HONGXIANG TRADING CO., LTD | Yuanwang Wood Product Factory Dajiang Taishan | 48.50 | 37.96
TAISHAN HONGXIANG TRADING CO., LTD | Can-Am Cabinet Ltd | 48.50 | 37.96
Taishan Hongzhou Cabinet Co., Ltd | Taishan Hongzhou Cabinet Co., Ltd | 48.50 | 37.96
Taishan Jiahong Trade Co., Ltd | Taishan Dajiang Town Dutou Wood Furniture Factory | 48.50 | 37.96
Taishan Jiahong Trade Co., Ltd | Foshan Nanhai Jinwei Cabinet Furniture Co., Ltd | 48.50 | 37.96
Taishan Jiahong Trade Co., Ltd | Taishan Huali Kitchen Cabinet Co., Ltd | 48.50 | 37.96
Taishan Jiahong Trade Co., Ltd | Taishan Empire Wood Co., Ltd | 48.50 | 37.96
TAISHAN OVERSEA TRADING COMPANY LTD | TAISHAN GANHUI STONE KITCHEN CO., LTD | 48.50 | 37.96
TAISHAN OVERSEA TRADING COMPANY LTD | Can-Am Cabinet Ltd | 48.50 | 37.96
TAISHAN OVERSEA TRADING COMPANY LTD | TAISHAN QUANMEI KITCHEN WARE CO., LTD | 48.50 | 37.96
TAISHAN OVERSEA TRADING COMPANY LTD | TAISHAN JIAFU CABINET CO., LTD | 48.50 | 37.96
TAISHAN OVERSEA TRADING COMPANY LTD | TAISHAN DAJIANG TOWN DUTOU FURNITURE FACTORY | 48.50 | 37.96
TAISHAN OVERSEA TRADING COMPANY LTD | Feiteng Kitchen Cabinets Taishan Corporation | 48.50 | 37.96
Taizhou Overseas Int'l Ltd | Zhejiang Royal Home Co., Ltd | 48.50 | 37.96
TANGSHAN BAOZHU FURNITURE CO., LTD | TANGSHAN BAOZHU FURNITURE CO., LTD | 48.50 | 37.96
Tech Forest Cabinetry Co., Ltd | Tech Forest Cabinetry Co., Ltd | 48.50 | 37.96
The Frame Manufacturing Co. Ltd | HUIZHOU DIWEIXIN JIATINGYONGPIN CO., LTD | 48.50 | 37.96
Top Goal International Group Ltd. (Hong Kong) | Dongguan City Top Goal Furniture Co., Ltd | 48.50 | 37.96
Tradewinds Furniture Ltd | Tradewinds Furniture Ltd | 48.50 | 37.96
Wa Fok Art Craft Furniture (MACAO) Co., Ltd | Zhongshan Huafu Art Craft Furniture Co., Ltd | 48.50 | 37.96
Weifang Fuxing Wood Co., Ltd | Weifang Fuxing Wood Co., Ltd | 48.50 | 37.96
WEIFANG KITCHINET CORPORATION | WEIFANG KITCHINET CORPORATION | 48.50 | 37.96
Weifang Lan Gu Wood Industry Co., Ltd | Weifang Lan Gu Wood Industry Co., Ltd | 48.50 | 37.96
Weifang Master Wood Industry Co., Ltd | Weifang Master Wood Industry Co., Ltd | 48.50 | 37.96
Weifang Yuanlin Woodenware Co., Ltd | Weifang Yuanlin Woodenware Co., Ltd | 48.50 | 37.96
Weihai Adornus Cabinetry Manufacturing Co., Ltd | Weihai Adornus Cabinetry Manufacturing Co., Ltd | 48.50 | 37.96
WEIHAI JARLIN CABINETRY MANUFACTURE CO., LTD | WEIHAI JARLIN CABINETRY MANUFACTURE CO., LTD | 48.50 | 37.96
Wellday International Company Limited also known as Dongguan Wellday Household Co., Ltd | Wellday International Company Limited also known as Dongguan Wellday Household Co., Ltd | 48.50 | 37.96
Wenzhou Youbo Industrial Co., Ltd | Wenzhou Youbo Industrial Co., Ltd | 48.50 | 37.96
Wuxi Yushea Furniture Co., Ltd | Wuxi Yushea Furniture Co., Ltd | 48.50 | 37.96
Wuxi Yusheng Kitchen-Bathroom Equipment Co., Ltd | Wuxi Yusheng Kitchen-Bathroom Equipment Co., Ltd | 48.50 | 37.96
Xiamen Adler Cabinetry Co., Ltd | Xiamen Adler Cabinetry Co., Ltd | 48.50 | 37.96
XIAMEN GOFOR STONE CO., LTD | KAICHENG (FUJIAN) KITCHEN CABINET CO., LTD | 48.50 | 37.96
XIAMEN GOLDEN HUANAN IMP. & EXP. CO., LTD | Changtai Guanjia Industrial Co., Ltd | 48.50 | 37.96
XIAMEN GOLDENHOME CO., LTD | XIAMEN GOLDENHOME CO., LTD | 48.50 | 37.96
XIAMEN KAICHENG TRADING LIMITED COMPANY | KAICHENG (FUJIAN) KITCHEN CABINET CO., LTD | 48.50 | 37.96
Xiamen Sintop Display Fixtures Co., Ltd | Xiamen Sintop Display Fixtures Co., Ltd | 48.50 | 37.96
XINGZHI INTERNATIONAL TRADE LIMITED | XUZHOU YIHE WOOD CO., LTD | 48.50 | 37.96
XUZHOU JIA LI DUO IMPORT & EXPORT CO., LTD | XUZHOU OUMEC WOOD-BASED PANEL CO., LTD | 48.50 | 37.96
XUZHOU YIHE WOOD CO., LTD | XUZHOU YIHE WOOD CO., LTD | 48.50 | 37.96
YEKALON INDUSTRY, INC | DONGGUAN TODA FURNITURE CO., LTD | 48.50 | 37.96
YEKALON INDUSTRY, INC | GUANGZHOUSHI BAISEN DECORATIVE MATERIALS COMPANY LIMITED | 48.50 | 37.96
YEKALON INDUSTRY, INC | DONGGUAN FANYANUO FURNITURE CO., LTD | 48.50 | 37.96
YEKALON INDUSTRY, INC | DONGGUANSHI ANKE BUILDING MATERIALS CO., LTD | 48.50 | 37.96
YEKALON INDUSTRY, INC | Oriental Chic Furniture Company Limited | 48.50 | 37.96
YEKALON INDUSTRY, INC | DONGGUAN FRANCISS FURNITURE CO., LTD | 48.50 | 37.96
YEKALON INDUSTRY, INC | SHANGHAI YUANYANG WOODEN CO., LTD | 48.50 | 37.96
Yi Sen Wood Industry Limited Company of Ning An City | Yi Sen Wood Industry Limited Company of Ning An City | 48.50 | 37.96
Yichun Dongmeng Wood Co., Ltd | Yichun Dongmeng Wood Co., Ltd | 48.50 | 37.96
Yichun Dongmeng Wood Co., Ltd | Qingdao Dimei Wood Co., Ltd | 48.50 | 37.96
Yichun Sunshine Wood Products Co., Ltd | Yichun Sunshine Wood Products Co., Ltd | 48.50 | 37.96
Yixing Pengjia Cabinetry Co. Ltd | Yixing Pengjia Cabinetry Co. Ltd | 48.50 | 37.96
Zhangjiagang Daye Hotel Furniture Co., Ltd | Zhangjiagang Daye Hotel Furniture Co., Ltd | 48.50 | 37.96
ZHANGJIAGANG PRO-FIXTURE CO., LTD | Zhangjiagang Yuanjiahe Home Furniture Co., Ltd | 48.50 | 37.96
ZHANGZHOU CITY XIN JIA HUA FURNITURE CO., LTD | ZHANGZHOU CITY XIN JIA HUA FURNITURE CO., LTD | 48.50 | 37.96
Zhangzhou Guohui Industrial & Trade Co., Ltd | Zhangzhou Guohui Industrial & Trade Co., Ltd | 48.50 | 37.96
Zhangzhou OCA Furniture Co., Ltd | Zhangzhou OCA Furniture Co., Ltd | 48.50 | 37.96
Zhaoqing Centech Decorative Material Company Ltd | Zhaoqing Centech Decorative Material Company Ltd | 48.50 | 37.96
Zhejiang Jindi Holding Group Co., Ltd | Zhejiang Jindi Holding Group Co., Ltd | 48.50 | 37.96
Zhong Shan Shi Yicheng Furniture & Craftwork Co., Ltd | Zhong Shan Shi Yicheng Furniture & Craftwork Co., Ltd | 48.50 | 37.96
Zhong Shan Yue Qin Imp. & Exp. Co., Ltd | Zhongshan Jinpeng Furniture Co., Ltd | 48.50 | 37.96
Zhongshan City Shenwan Meiting Furniture Factory | Zhongshan City Shenwan Meiting Furniture Factory | 48.50 | 37.96
Zhongshan Fookyik Furniture Co., Ltd | Zhongshan Fookyik Furniture Co., Ltd | 48.50 | 37.96
ZHONGSHAN GAINWELL FURNITURE CO., LTD | ZHONGSHAN GAINWELL FURNITURE CO., LTD | 48.50 | 37.96
Zhongshan Guanda Furniture Manufacturing Co., Ltd also known as Guanda Furniture Co., Ltd | Zhongshan Guanda Furniture Manufacturing Co., Ltd | 48.50 | 37.96
ZHONGSHAN HENGFU FURNITURE COMPANY LIMITED | ZHONGSHAN HENGFU FURNITURE COMPANY LIMITED | 48.50 | 37.96
Zhongshan King's Group Furniture (ENTERPRISES) Co., Ltd | Zhongshan King's Group Furniture (ENTERPRISES) Co., Ltd | 48.50 | 37.96
Zhoushan For-strong Wood Co., Ltd | Zhoushan For-strong Wood Co., Ltd | 48.50 | 37.96
Zhoushan For-strong Wood Co., Ltd | Shanghai Wanmuda Furniture Co., Ltd | 48.50 | 37.96
Zhucheng Tonghe Woodworks Co., ltd | Zhucheng Tonghe Woodworks Co., ltd | 48.50 | 37.96
Zhuhai Seagull Kitchen and Bath Products Co., Ltd | Zhuhai Seagull Kitchen and Bath Products Co., Ltd | 48.50 | 37.96
ZIEL INTERNATIONAL CO., LIMITED | DONGGUAN FANG CHENG FURNITURE LTD | 48.50 | 37.96
ZIEL INTERNATIONAL CO., LIMITED | ZhongShan PRO-YEARN Crafts Product Co., Ltd | 48.50 | 37.96
ZIEL INTERNATIONAL CO., LIMITED | FUJIAN NEWMARK INDUSTRIAL CO., LTD | 48.50 | 37.96
ZIEL INTERNATIONAL CO., LIMITED | Fuzhou Zhonghe Houseware CO., LTD | 48.50 | 37.96
ZIEL INTERNATIONAL CO., LIMITED | MING LIANG FURNITURE PRODUCT CO., LTD | 48.50 | 37.96
ZIEL INTERNATIONAL CO., LIMITED | XIANJU JUNYANG HOUSEHOLD PRODUCTS CO., LTD | 48.50 | 37.96
ZIEL INTERNATIONAL CO., LIMITED | DongGuan HeTai Homewares CO., LTD | 48.50 | 37.96
ZIEL INTERNATIONAL CO., LIMITED | CHENG TONG HARDWARE RPODUCT LTD | 48.50 | 37.96
ZIEL INTERNATIONAL CO., LIMITED | Nantong Jon Ergonomic office Co., Ltd | 48.50 | 37.96
China-Wide Entity ¹⁶ |  | 262.18 | 251.64

Disclosure

We intend to disclose to parties the calculations performed in this proceeding within five days of any public announcement of this notice in accordance with 19 CFR 351.224(b).

¹⁶ Commerce preliminarily determined that BRENTRIDGE HOLDING CO., LTD., Harbin Hongsen Wood Co., Ltd., SAICG International Trading Co., Ltd, Shanghai East Best Foreign Trade Co., Ltd., SHANGHAI TIMBER IMPORT & EXPORT CORP., and ZHONG SHAN KING YUANDUN WOOD PRODUCTS CO., LTD. also known as CHIN-SHU WOODEN LTD each failed to establish their eligibility for a separate rate and, therefore, we preliminarily determined that these companies are part of the China-wide entity. See Preliminary Decision Memorandum. We continue to find these entities, except for BRENTRIDGE HOLDING CO., LTD., as ineligible for separate rate status for our final determination. See Issues and Decision Memorandum at Comment 3. For this final determination, except for BRENTRIDGE HOLDING CO., LTD., we continue to find that these companies are part of the China-wide entity. For further discussion with respect to certain of these companies, see the Issues and Decision Memorandum accompanying this notice at Comment 3.

Continuation of Suspension of Liquidation

In accordance with section 735(c)(1)(B) of the Act, we will instruct U.S. Customs and Border Protection (CBP) to continue to suspend liquidation of all entries of wooden cabinets and vanities from China, as described in the “Scope of the Investigation” section, entered, or withdrawn from warehouse, for consumption on or after October 9, 2019, the date of publication of the Preliminary Determination notice in the Federal Register.

Pursuant to section 735(c)(1)(B)(ii) of the Act, Commerce will instruct CBP to require a cash deposit ¹⁷ equal to the weighted-average amount by which normal value exceeds U.S. price as follows: (1) The cash deposit rate for the exporter/producer combination listed in the table above will be the rate identified for that combination in the table; (2) for all combinations of China exporters/producers of merchandise under consideration that have not received their own separate rate above, the cash-deposit rate will be the cash deposit rate established for the China-wide entity; and (3) for all non-China exporters of the merchandise under consideration which have not received their own separate rate above, the cash-deposit rate will be the cash deposit rate applicable to the China exporter/producer combination that supplied that non-China exporter. These suspension of liquidation instructions will remain in effect until further notice.

¹⁷ See Modification of Regulations Regarding the Practice of Accepting Bonds During the Provisional Measures Period in Antidumping and Countervailing Duty Investigations, 76 FR 61042 (October 3, 2011).

We normally adjust AD cash deposit rates by the amount of export subsidies, where appropriate. In the companion countervailing duty (CVD) investigation, with respect to the mandatory respondents individually examined in the CVD investigation, and the separate-rate companies, we find that an export subsidy adjustment of 10.54 percent to the cash deposit rate is warranted because this is the export subsidy rate included in the CVD all-others rate to which the separate-rate companies are subject. As part of our determination in this final determination to apply AFA the China-wide entity, Commerce has adjusted the China-wide entity's AD cash deposit rate by the lowest export subsidy rate determined for any party in the companion CVD proceeding, i.e., 10.54 percent.18 19

¹⁸ See, e.g., Certain Passenger Vehicle and Light Truck Tires from the People's Republic of China: Preliminary Determination of Sales at Less Than Fair Value; Preliminary Affirmative Determination of Critical Circumstances; In Part and Postponement of Final Determination, 80 FR 4250 (January 27, 2015), and accompanying Issues and Decision Memorandum at 35.

¹⁹ See Wooden Cabinets and Vanities and Components Thereof from the People's Republic of China: Final Affirmative Countervailing Duty Determination, dated concurrently with this notice, and accompanying Issues and Decision Memorandum. The final determination in this companion CVD proceeding is being issued on the same day as this final AD determination.

Pursuant to section 777A(f) of the Act, we normally adjust cash deposit rates for estimated domestic subsidy pass-through, where appropriate. However, in this case there is no basis to grant a domestic subsidy pass-through adjustment.²⁰

²⁰ See Issues and Decision Memorandum at “Adjustment Under Section 777A(f) of the Act.”

International Trade Commission Notification

In accordance with section 735(d) of the Act, we notified the International Trade Commission (ITC) of the final affirmative determination of sales at LTFV. As Commerce's final determination is affirmative, in accordance with section 735(b)(2) of the Act, the ITC will determine, within 45 days, whether the domestic industry in the United States is materially injured, or threatened with material injury, by reason of imports of wooden cabinets and vanities for sale from China, or sales (or the likelihood of sales) for importation, of wooden cabinets and vanities from China. If the ITC determines that such injury does not exist, this proceeding will be terminated and all securities posted will be refunded or canceled. If the ITC determines that such injury does exist, Commerce will issue an antidumping duty order directing CBP to assess, upon further instruction by Commerce, antidumping duties on all imports of the subject merchandise entered, or withdrawn from warehouse, for consumption on or after the effective date of the suspension of liquidation.

Notification Regarding Administrative Protective Orders (APO)

In the event that the ITC issues a final negative injury determination, this notice will serve as the only reminder to parties subject to the APO of their responsibility concerning the destruction of proprietary information disclosed under APO in accordance with 19 CFR 351.305(a)(3). Timely written notification of the return/destruction of APO materials or conversion to judicial protective order is hereby requested. Failure to comply with the regulations and terms of an APO is a violation which is subject to sanction.

Notification to Importers

This notice also serves as an initial reminder to importers of their responsibility under 19 CFR 351.402(f) to file a certificate regarding the reimbursement of antidumping duties prior to liquidation. Failure to comply with this requirement could result in Commerce's presumption that reimbursement of antidumping duties occurred and the subsequent assessment of doubled antidumping duties.

Notification to Interested Parties

This determination is issued and published in accordance with sections 735(d) and 777(i)(1) of the Act, and 19 CFR 351.210(c).

Dated: February 21, 2020.
Jeffrey I. Kessler,
Assistant Secretary for Enforcement and Compliance.

Appendix I

Scope of the Investigation

The merchandise subject to this investigation consists of wooden cabinets and vanities that are for permanent installation (including floor mounted, wall mounted, ceiling hung or by attachment of plumbing), and wooden components thereof. Wooden cabinets and vanities and wooden components are made substantially of wood products, including solid wood and engineered wood products (including those made from wood particles, fibers, or other wooden materials such as plywood, strand board, block board, particle board, or fiberboard), or bamboo. Wooden cabinets and vanities consist of a cabinet box (which typically includes a top, bottom, sides, back, base blockers, ends/end panels, stretcher rails, toe kicks, and/or shelves) and may or may not include a frame, door, drawers and/or shelves. Subject merchandise includes wooden cabinets and vanities with or without wood veneers, wood, paper or other overlays, or laminates, with or without non-wood components or trim such as metal, marble, glass, plastic, or other resins, whether or not surface finished or unfinished, and whether or not completed.

Wooden cabinets and vanities are covered by the investigation whether or not they are imported attached to, or in conjunction with, faucets, metal plumbing, sinks and/or sink bowls, or countertops. If wooden cabinets or vanities are imported attached to, or in conjunction with, such merchandise, only the wooden cabinet or vanity is covered by the scope.

Subject merchandise includes the following wooden component parts of cabinets and vanities: (1) Wooden cabinet and vanity frames (2) wooden cabinet and vanity boxes (which typically include a top, bottom, sides, back, base blockers, ends/end panels, stretcher rails, toe kicks, and/or shelves), (3) wooden cabinet or vanity doors, (4) wooden cabinet or vanity drawers and drawer components (which typically include sides, backs, bottoms, and faces), (5) back panels and end panels, (6) and desks, shelves, and tables that are attached to or incorporated in the subject merchandise.

Subject merchandise includes all unassembled, assembled and/or “ready to assemble” (RTA) wooden cabinets and vanities, also commonly known as “flat packs,” except to the extent such merchandise is already covered by the scope of antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR 513 (January 4, 2018). RTA wooden cabinets and vanities are defined as cabinets or vanities packaged so that at the time of importation they may include: (1) Wooden components required to assemble a cabinet or vanity (including drawer faces and doors); and (2) parts (e.g., screws, washers, dowels, nails, handles, knobs, adhesive glues) required to assemble a cabinet or vanity. RTAs may enter the United States in one or in multiple packages.

Subject merchandise also includes wooden cabinets and vanities and in-scope components that have been further processed in a third country, including but not limited to one or more of the following: Trimming, cutting, notching, punching, drilling, painting, staining, finishing, assembly, or any other processing that would not otherwise remove the merchandise from the scope of the investigation if performed in the country of manufacture of the in-scope product.

Excluded from the scope of this investigation, if entered separate from a wooden cabinet or vanity are:

(1) Aftermarket accessory items which may be added to or installed into an interior of a cabinet and which are not considered a structural or core component of a wooden cabinet or vanity. Aftermarket accessory items may be made of wood, metal, plastic, composite material, or a combination thereof that can be inserted into a cabinet and which are utilized in the function of organization/accessibility on the interior of a cabinet; and include:

• Inserts or dividers which are placed into drawer boxes with the purpose of organizing or dividing the internal portion of the drawer into multiple areas for the purpose of containing smaller items such as cutlery, utensils, bathroom essentials, etc.etc.

• Round or oblong inserts that rotate internally in a cabinet for the purpose of accessibility to foodstuffs, dishware, general supplies, etc.

(2) Solid wooden accessories including corbels and rosettes, which serve the primary purpose of decoration and personalization.

(3) Non-wooden cabinet hardware components including metal hinges, brackets, catches, locks, drawer slides, fasteners (nails, screws, tacks, staples), handles, and knobs.

(4) Medicine cabinets that meet all of the following five criteria are excluded from the scope: (1) Wall mounted; (2) assembled at the time of entry into the United States; (3) contain one or more mirrors; (4) be packaged for retail sale at time of entry; and (5) have a maximum depth of seven inches.

Also excluded from the scope of this investigation are:

(1) All products covered by the scope of the antidumping duty order on Wooden Bedroom Furniture from the People's Republic of China. See Notice of Amended Final Determination of Sales at Less Than Fair Value and Antidumping Duty Order: Wooden Bedroom Furniture from the People's Republic of China, 70 FR 329 (January 4, 2005).

(2) All products covered by the scope of the antidumping and countervailing duty orders on Hardwood Plywood from the People's Republic of China. See Certain Hardwood Plywood Products from the People's Republic of China: Amended Final Determination of Sales at Less Than Fair Value, and Antidumping Duty Order, 83 FR 504 (January 4, 2018); Certain Hardwood Plywood Products from the People's Republic of China: Countervailing Duty Order, 83 FR. 513 (January 4, 2018).

Imports of subject merchandise are classified under Harmonized Tariff Schedule of the United States (HTSUS) statistical numbers 9403.40.9060 and 9403.60.8081. The subject component parts of wooden cabinets and vanities may be entered into the United States under HTSUS statistical number 9403.90.7080. Although the HTSUS subheadings are provided for convenience and customs purposes, the written description of the scope of this investigation is dispositive.

Appendix II

Issues and Decision Memorandum

I. Summary

II. Background

III. Period of Investigation

IV. Scope of the Investigation

V. Scope Comments

VI. Use of Adverse Facts Available

VII. Changes Since the Preliminary Determination

VIII. Adjustments Under Section 777A(f) of the Act

IX. Adjustments to Cash Deposit Rates for Export Subsidies

X. Discussion of the Issues

General Comments

Comment 1: Initiation of the Investigation

Comment 2: Respondent Selection

Comment 3: Separate Rate Applicants

Comment 4: Company Name for Supree (Fujian) Wood Co., Ltd. (Supree)

Comment 5: Calculation of the Separate Rate Assigned to Non-Selected Companies

Surrogate Value (SV) Comments

Comment 6: Surrogate Country

Comment 7: SVs for Birch and Poplar

Comment 8: Calculation of Financial Ratios

Comment 9: Labor Rate Calculation

Company-Specific Comments

Ancientree

Comment 10: Whether to Apply AFA to Ancientree

Comment 11: Treatment of Jiangsu Hongjia Wood Ltd. (Jiangsu Hongjia) as an Affiliate

Comment 12: SV Selections

Foremost

Comment 13: Combination Kits

Comment 14: Exempted Sales

Comment 15: Early Payment Discounts

Comment 16: Section 301 Duties

Comment 17: Foremost's U.S. Inland Freight Charges from the Port to the Warehouse

Comment 18: Foremost's U.S. Inland Freight Charges to the Customer

Comment 19: FGI's Acquisition Costs

Comment 20: Labor Hours

Comment 21: Calculation and Programing Revisions

Meisen

Comment 22: Total AFA for Meisen

XI. Recommendation

[FR Doc. 2020-04121 Filed 2-27-20; 8:45 am]

BILLING CODE 3510-DS-P